DEPARTMENT OF TRANSPORTATION

Maritime Administration

[Docket No. MARAD-2024-0157]

Request for Comments on the Renewal of a Previously Approved Collection: Centers of Excellence (CoE) for Domestic Maritime Workforce Training and Education Annual Application for Designation

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0549 (Centers of Excellence (CoE) for Domestic Maritime Workforce Training and Education Annual Application for Designation) is used to determine the eligibility of certain qualified training entities to apply for CoE designation. Due to a change in the CoE program designation duration, the total responses, respondents, and burden hours for this collection have reduced since the last renewal. We are required to publish this notice in the Federal Register to obtain comments from the public and affected agencies.

ADDRESSES: Written comments and recommendations for the proposed information collections should be sent within 30 days of publication of this notice to www.reginfo.gov/public/do/ PRAMain. Find this information collection by selecting “Currently under 30-day Review—Open for Public Comments” or by using the search function.

FOR FURTHER INFORMATION CONTACT: Gerard Wall, Program Manager, 202-366-7273, Centers of Excellence, Room W23-470, Maritime Administration, U.S. Department of Transportation, 1200 New Jersey Avenue SE, Washington, DC, 20590, Email: gerard.wall@dot.gov.

SUPPLEMENTARY INFORMATION:

Title: Centers of Excellence (CoE) for Domestic Maritime Workforce Training and Education Annual Application for Designation.

OMB Control Number: 2133-0549.

Type of Request: Extension of a previously approved information collection.

Abstract: In order to implement section 3507 of the National Defense Authorization Act of 2018, Public Law 115-91 (the “Act”), codified at 46 United States Code (U.S.C.) 51706 (previously designated as 46 U.S.C. 54102), MARAD developed a procedure to recommend to the Secretary the designation of eligible institutions as Centers of Excellence (CoE) for Domestic Maritime Workforce Training and Education. Pursuant to the Act, the Secretary of Transportation may designate certain eligible and qualified training entities as CoEs. Authority to administer the CoE program is delegated to MARAD in 49 Code of Federal Regulations (CFR) 1.93(a). The previously approved policy for collecting information is required to administer the Center of Excellence program which supports the DOT strategic goal of Economic Competitiveness, and the MARAD strategic goal to Maintain and Modernize the Maritime workforce.

Respondents: Postsecondary educational and vocational institutions, registered apprenticeship sponsors, and structured experiential learning training programs in certain eligible locations are eligible to apply for CoE designation. Additionally, “maritime training centers previously designated as a 2021 CoE” are eligible under the statute.

Affected Public: Postsecondary educational and vocational institutions, registered apprenticeship sponsors, and structured experiential learning training programs.

Estimated Number of Respondents: 50.

Estimated Number of Responses: 50.

Estimated Hours per Response: 48.

Annual Estimated Total Annual Burden Hours: 2,400.

Frequency of Response: Once Annually.

A 60-day Federal Register Notice soliciting comments on this information collection was published on October 1, 2024 (89 FR 80012).

(Authority: The Paperwork Reduction Act of 1995; 44 U.S.C. chapter 35, as amended; and 49 CFR 1.49.)

By Order of the Maritime Administrator.
T. Mitchell Hudson, Jr.
Secretary, Maritime Administration.

[FR Doc. 2024-28613 Filed 12-5-24; 8:45 am]

BILLING CODE 4910-81-P